DEPARTMENT OF HEALTH AND HUMAN SERVICES

Food and Drug Administration

[Docket No. 2004N-0226]

Food and Drug Administration Modernization Act of 1997: Modifications to the List of Recognized Standards, Recognition List Number: 018

AGENCY: Food and Drug Administration, HHS.

ACTION: Notice.

SUMMARY: The Food and Drug Administration (FDA) is announcing a publication containing modifications the agency is making to the list of standards FDA recognizes for use in premarket reviews (FDA recognized consensus standards). This publication, entitled “Modifications to the List of Recognized Standards, Recognition List Number: 018” (Recognition List Number: 018), will assist manufacturers who elect to declare conformity with consensus standards to meet certain requirements for medical devices.

DATES: Submit written or electronic comments concerning this document at any time. See section VII of this document for the effective date of the recognition of standards announced in this document.

ADDRESSES: Submit written requests for single copies of “Modifications to the List of Recognized Standards, Recognition List Number: 018” to the Division of Small Manufacturers, International and Consumer Assistance, Center for Devices and Radiological Health (HFZ-220), Food and Drug Administration, 1350 Piccard Dr., Rockville, MD 20850. Send two self-addressed adhesive labels to assist that office in processing your requests, or FAX your request to 301-443-8818. Submit written comments concerning this document, or recommendations for additional standards for recognition, to the contact person (see FOR FURTHER INFORMATION CONTACT). Submit electronic comments by e-mail: standards@cdrh.fda.hhs.gov. This document may also be accessed on FDA's Web site at http://www.accessdata.fda.gov/scripts/cdrh/cfdocs/cfTopic/cdrhnew.cfm. See section VI of this document for electronic access to the searchable database for the current list of FDA recognized consensus standards, including Recognition List Number: 018 modifications and other standards related information.

FOR FURTHER INFORMATION CONTACT: Carol L. Herman, Center for Devices and Radiological Health (HFZ-84), Food and Drug Administration, 2098 Gaither Rd., Rockville, MD 20850, 240-276-0533.

SUPPLEMENTARY INFORMATION:

I. Background

Section 204 of the Food and Drug Administration Modernization Act of 1997 (FDAMA) (Public Law 105-115) amended section 514 of the Federal Food, Drug, and Cosmetic Act (the act) (21 U.S.C. 360d). Amended section 514 allows FDA to recognize consensus standards developed by international and national organizations for use in satisfying portions of device premarket review submissions or other requirements.

In a notice published in the Federal Register of February 25, 1998 (63 FR 9561), FDA announced the availability of a guidance entitled “Recognition and Use of Consensus Standards.” The notice described how FDA would implement its standard recognition program and provided the initial list of recognized standards.

Modifications to the initial list of recognized standards, as published in the Federal Register, are identified in table 1 of this document.

Table 1.
Federal Register Cite
October 16, 1998 (63 FR 55617)
July 12, 1999 (64 FR 37546)
November 15, 2000 (65 FR 69022)
May 7, 2001 (66 FR 23032)
January 14, 2002 (67 FR 1774)
October 2, 2002 (67 FR 61893)
April 28, 2003 (68 FR 22391)
March 8, 2004 (69 FR 10712)
June 18, 2004 (69 FR 34176)
October 4, 2004 (69 FR 59240)
May 27, 2005 (70 FR 30756)
November 8, 2005 (70 FR 67713)
March 31, 2006 (71 FR 16313)
June 23, 2006 (71 FR 36121)
November 3, 2006 (71 FR 64718)
May 21, 2007 (72 FR 28500)

These notices describe the addition, withdrawal, and revision of certain standards recognized by FDA. The agency maintains “hypertext markup language” (HTML) and “portable document format” (PDF) versions of the list of “FDA Recognized Consensus Standards.” Both versions are publicly accessible at the agency's Internet site. See section VI of this document for electronic access information. Interested persons should review the supplementary information sheet for the standard to understand fully the extent to which FDA recognizes the standard.

II. Modifications to the List of Recognized Standards, Recognition List Number: 018

FDA is announcing the addition, withdrawal, correction, and revision of certain consensus standards the agency will recognize for use in satisfying premarket reviews and other requirements for devices. FDA will incorporate these modifications in the list of FDA Recognized Consensus Standards in the agency's searchable database. FDA will use the term “Recognition List Number: 018” to identify these current modifications.

In table 2 of this document, FDA describes the following modifications: (1) The withdrawal of standards and their replacement by others; (2) the correction of errors made by FDA in listing previously recognized standards; and (3) the changes to the supplementary information sheets of recognized standards that describe revisions to the applicability of the standards.

In section III of this document, FDA lists modifications the agency is making that involve the initial addition of standards not previously recognized by FDA.

Table 2.
Old Item No. | Standard | Change | Replacement Item No.
A. Anesthesia
3 | ASTM F1161-88, Standard Specification for Minimum Performance and Safety Requirements for Components and Systems of Anesthesia Gas Machines | Withdrawn |
15 | ISO 5361-4:1987, Tracheal Tubes—Part 4: Cole Type | Contact person |
35 | ISO 5361:1999, Anaesthetic and Respiratory Equipment—Tracheal Tubes and Connectors | Contact person |
36 | ISO 5366-3:2001, Anaesthetic and Respiratory Equipment—Tracheostomy Tubes—Part 3: Pediatric Tracheostomy Tubes | Contact person |
42 | ISO 5360:2006, Anaesthetic Vaporizers—Agent Specific Filling Systems | Withdrawn and replaced with newer version | 74
43 | ISO 5362:2006, Anaesthetic Reservoir Bags | Withdrawn and replaced with newer version | 75
44 | ISO 5366-1:2000, Anaesthetic and Respiratory Equipment—Tracheostomy Tubes—Part 1: Tubes and Connectors for Use in Adults | Contact person |
46 | ISO 5367:2000, Breathing Tubes Intended for Use With Anaesthetic Apparatus and Ventilators | Contact person |
50 | ASTM F920-93(1999): Standard Specification for Minimum Performance and Safety Requirements for Resuscitators Intended for Use with Humans | Withdrawn |
55 | ASTM F1054-01: Standard Specification for Conical Fittings | Withdrawn |
61 | IEC 60601-2-13(2003-05), Medical Electrical Equipment—Part 2-13: Particular Requirements for the Safety and Essential Performance of Anaesthetic Systems | Contact person |
62 | ISO 5356-1:2004, Anaesthetic and Respiratory Equipment—Conical Connectors: Part 1: Cones and Sockets | Contact person |
B. Biocompatibility
21 | AAMI / ANSI / ISO 10993-11:1993, Biological Evaluation of Medical Devices—Part 11: Tests for Systemic Toxicity | Contact person |
63 | AAMI / ANSI / ISO 10993-6:1995/(R) 2001, Biological Evaluation of Medical Devices—Part 6: Test for Local Effects After Implantation | Contact person |
64 | AAMI / ANSI / ISO 10993-5:1999, Biological Evaluation of Medical Devices—Part 5: Tests for In Vitro Cytotoxicity | Contact person |
68 | ASTM F719-81(2002)e1: Standard Practice for Testing Biomaterials in Rabbits for Primary Skin Irritation | Contact person |
70 | ASTM F750-87 (2002)e1: Standard Practice for Evaluating Material Extracts by Systemic Injection in the Mouse | Contact person |
71 | ASTM F1408-02e1: Standard Practice for Subcutaneous Screening Test for Implant Materials | Contact person |
83 | ASTM E1262-88(2003): Standard Guide for Performance of the Chinese Hamster Ovary Cell/Hypoxanthine Guanine Phosphoribosyl Transferase Gene Mutation Assay | Contact person |
84 | ASTM E1263-97(2003): Standard Guide for Conduct of Micronucleus Assays in Mammalian Bone Marrow Erythrocytes | Contact person |
85 | ASTM E1280-97 (2003): Standard Guide for Performing the Mouse Lymphoma Assay for Mammalian Cell Mutagenicity | Contact person |
87 | AAMI / ANSI / ISO 10993-10:2002, Biological Evaluation of Medical Devices—Part 10: Tests for Irritation and Sensitization | Contact person |
88 | AAMI / ANSI / ISO 10993-12: 2002(E), Biological Evaluation of Medical Devices—Part 12: Sample Preparation and Reference materials | Contact person |
89 | ASTM F749-98 (2002)e2: Standard Practice for Evaluating Material Extracts by Intracutaneous Injection in the Rabbit | Contact person |
90 | ASTM E1397-91(2003): Standard Practice for the in vitro Rat Hepatocyte DNA Repair Assay | Contact person |
91 | ASTM E1398-91(2003): Standard Practice for the in vivo Rat Hepatocyte DNA Repair Assay | Contact person |
92 | ASTM F748-04: Standard Practice for Selecting Generic Biological Test Methods for Materials and Devices | Contact person |
93 | ASTM F763-04: Standard Practice for Short-Term Screening of Implant Materials | Contact person |
94 | ASTM F981-04: Standard Practice for Assessment of Compatibility of Biomaterials for Surgical Implants with Respect to Effect of Materials on Muscle and Bone | Contact person |
97 | ASTM F1983-99(2003): Standard Practice for Assessment of Compatibility of Absorbable/Resorbable Biomaterials for Implant Applications | Contact person |
98 | AAMI / ANSI / ISO 10993-1:2003(E), Biological evaluation of medical devices—Part 1: Evaluation and Testing | Contact person |
99 | ASTM F1904-98(2003): Standard Practice for Testing the Biological Responses to Particles In Vivo | Contact person |
100 | ASTM E1372-95(2003): Standard Test Method for Conducting a 90-Day Oral Toxicity Study in Rats | Contact person |
106 | ASTM F619-03: Standard Practice for Extraction of Medical Plastics | Contact person |
109 | USP 29-NF21 Biological Tests <87>, Biological Reactivity Test, In Vitro—Direct Contact Test | Contact person |
110 | USP 29-NF21 Biological Tests <87>, Biological Reactivity Test, In Vitro—Elution Test | Contact person |
111 | USP 29-NF21 Biological Tests <88>, Biological Reactivity Tests, In Vivo, Procedure—Preparation of Sample | Contact person |
112 | USP 29-NF21 Biological Tests <88>, Biological Reactivity Test, In Vitro, Classification of Plastics—Intracutaneous Test | Contact person |
113 | USP 29-NF21 Biological Tests <88>, Biological Reactivity Tests, In Vivo, Classification of Plastics—Systemic Injection Test | Contact person |
114 | ASTM F1877-05: Standard Practice for Characterization of Particles | Contact person |
115 | ASTM F895-84(2006): Standard Test Method for Agar Diffusion cell Culture Screening for Cytotoxicity | Contact person |
116 | ASTM F1439-03: Standard Guide for Performance of Lifetime Bioassay for the Tumorigenic Potential of Implant Materials | Contact person |
C. General
2 | IEC 60601-1, Medical electrical equipment — Part 1: General requirements for safety | Withdrawn |
11 | ISO 2859-1:1999: Sampling Procedures for Inspection By Attributes—Part 1: Sampling Schemes Indexed by Acceptance Quality Limit (AQL)for Lot-by-Lot Inspection | Withdrawn and replaced with newer year version | 37
14 | ANSI/ASQ Z1.4-2003: Sampling Procedures and Tables for Inspection by Attributes | Withdrawn and replaced with newer year version | 38
22 | ISO 2768-1: 1989, General Tolerances—Part 1: Tolerances for Linear and Angular Dimensions Without Individual Tolerance Indications | Contact name |
23 | ISO 2768-2: 1989, General Tolerances—Part 2: Geometrical Tolerances for Features Without Individual Tolerance Indications | Contact name |
24 | IEC 60812, edition 2.0: 2006-01, Analysis Technique for System Reliability—Procedure for Failure Mode and Effects Analysis | Withdrawn and replaced with newer year version | 39
26 | ISO 14971:2007: Medical devices—Application of Risk Management to Medical Devices | Withdrawn and replaced with newer year version | 40
28 | IEC 60601-1-2, (Second Edition, 2001), Medical Electrical Equipment—Part 1-2: General Requirements for Safety; Electromagnetic Compatibility—Requirements and Tests | Extent of recognition |
30 | AAMI/ANSI/IEC 60601-1-2, Medical Electrical Equipment—Part 1-2: General Requirements for Safety—Collateral Standard: Electromagnetic Compatibility—Requirements and Tests. (The AAMI/ANSI/IEC 60601-1-2:2001 is the U.S. version of IEC 60601-1-2:2001 with identical requirements for electromagnetic compatibility (EMC) of medical electrical equipment.) | Title change Type of standard Extent of recognition |
34 | IEC 60601-1-2, Medical Electrical Equipment—Part 1-2: General Requirements for Safety—Collateral Standard: Electromagnetic Compatibility—Requirements and Tests (Edition 2:2001 with Amendment 1:2004; Edition 2.1 (Edition 2:2001 consolidated with Amendment 1:2004)) | Extent of recognition |
35 | AAMI/ANSI/IEC 60601-1-2, Medical Electrical Equipment—Part 1-2: General Requirements for Safety—Collateral Standard: Electromagnetic Compatibility—Requirements and Tests (Edition 2:2001 with Amendment 1:2004) (AAMI/ANSI/IEC 60601-1-2:2001 is the U.S. version of IEC 60601-1-2:2001, with identical requirements for electromagnetic compatibility (EMC) of medical electrical equipment.) | Extent of recognition |
D. General Hospital/ General Plastic Surgery
18 | ISO 8537:1991 Sterile Single-use Syringes, With or Without Needle, for Insulin | Withdrawn duplicate |
20 | ISO 10555-1-1995 Sterile, Single-use Intravascular Catheters—Part 1: General Requirements | Withdrawn duplicate |
46 | IEC 60601-2-2 2006 Medical Electrical Equipment—Part 2-2: Particular Requirements for the Safety of High Frequency Surgical Equipment | Withdrawn and replaced with newer version | 197
69 | ISO 9626-1991: Stainless Steel Needle Tubing for the Manufacture of Medical Devices | Withdrawn duplicate |
72 | ISO 10555-5 1996-06-15 Sterile, Single-use Intravascular Catheters—Part 5: Over-needle Peripheral Catheters | Withdrawn duplicate |
96 | ASTM F2101-07 Standard Test Method for Evaluating the Bacterial Filtration Efficiency (BFE) of Medical Face Mask Materials, Using a Biological Aerosol of Staphylococcus Aureus | Withdrawn and replaced with newer version | 199
113 | ASTM F2100-07 Standard Specification for Performance of Materials Used in Medical Face Masks | Withdrawn and replaced with newer version | 198
108 | ASTM F754-00 Standard Specification for Implantable Polytetrafluoroethylene (PTFE) Polymer Fabricated in Sheet, Tube and Rod Shapes | Transferred to materials |
109 | ASTM F881-94(2006) Standard Specification for Silicone Elastomer Facial Implants | Withdrawn and replaced with newer version | 185
128 | ASTM F1670-07 Standard Test Method for Resistance of Materials Used in Protective Clothing to Penetration by Synthetic Blood | Withdrawn and replaced with newer version | 186
130 | ASTM F1671-07 Standard Test Method for Resistance of Materials Used in Protective Clothing to Penetration by Blood-Borne Pathogens Using Phi-X174 Bacteriophage Penetration as a Test System | Withdrawn and replaced with newer version | 187
151 | USP 30:2007 Nonabsorbable Surgical Suture | Withdrawn and replaced with newer version | 188
152 | USP 30<11>: 2007 Sterile Sodium Chloride for Irrigation | Withdrawn and replaced with newer version | 189
153 | USP 30:2007 Absorbable Surgical Suture | Withdrawn and replaced with newer version | 190
154 | USP 30<881>:2007 Tensile Strength | Withdrawn and replaced with newer version | 191
155 | USP 30<861>:2007 Sutures—Diameter | Withdrawn and replaced with newer version | 192
156 | USP 30<871>:2007 Sutures Needle Attachment | Withdrawn and replaced with newer version | 193
157 | USP 30<11>: 2007 Sterile Water for Irrigation | Withdrawn and replaced with newer version | 194
158 | USP 30<11>: 2007 Heparin Lock Flush Solution | Withdrawn and replaced with newer version | 195
159 | USP 30<11>: 2007 Sodium Chloride Injection | Withdrawn and replaced with newer version | 196
181 | ASTM F1862-07: Standard Test Method for Resistance of Medical Face Masks to Penetration by Synthetic Blood (Horizontal Projection of Fixed Volume at a Known Velocity) | Withdrawn and replaced with newer version | 184
E. Materials
2 | ASTM F75-07: Standard Specification for Cobalt-28 Chromium-6 Molybdenum Alloy Castings and Casting Alloy for Surgical Implants (UNS R30075) | Withdrawn and replaced with newer year version | 137
15 | ASTM F745-07: Standard Specification for 18 Chromium-12.5 Nickel-2.5 Molybdenum Stainless Steel for Cast and Solution-Annealed Surgical Implant Applications | Withdrawn and replaced with newer year version | 138
26 | ASTM F1314-07: Standard Specification for Wrought Nitrogen Strengthened 22 Chromium—13 Nickel—5 Manganese—2.5 Molybdenum Stainless Steel Alloy Bar and Wire for Surgical Implants (UNS S20910) | Withdrawn and replaced with newer year version | 139
37 | ASTM F1813-06: Standard Specification for Wrought Titanium—12 Molybdenum—6 Zirconium—2 Iron Alloy for Surgical Implant (UNS R58120) | Withdrawn and replaced with newer year version | 140
43 | ASTM F2146-07: Standard Specification for Wrought Titanium-3Aluminum-2.5Vanadium Alloy Seamless Tubing for Surgical Implant Applications (UNS R56320) | Withdrawn and replaced with newer year version | 141
67 | ISO 7153-1:1991/Amd. 1:1999, Surgical Instruments—Metallic Materials—Part 1: Stainless Steel | Contact person |
87 | ASTM F1978-00(2007)e2: Standard Test Method for Measuring Abrasion Resistance of Metallic Thermal Spray Coatings by Using the Taber Abraser | Withdrawn and replaced with newer year version | 142
89 | ASTM F1873-98: Standard Specification for High-Purity Dense Yttria Tetragonal Zirconium Oxide Polycrystal (Y-TZP) for Surgical Implant Applications | Withdrawn |
106 | ASTM F648-07: Standard Specification for Ultra-High-Molecular-Weight Polyethylene Powder and Fabricated Form for Surgical Implants | Withdrawn and replaced with newer year version | 143
128 | ASTM F2213-06: Standard Test Method for Measurement of Magnetically Induced Torque on Medical Devices in the Magnetic Resonance Environment | Title |
GH/GPS 108 | ASTM F754-00: Standard Specification for Implantable Polytetrafluoroethylene (PTFE) Polymer Fabricated in Sheet, Tube, and Rod Shapes | Transferred from GH/GPS to Materials | 144
F. OB-GYN/Gastroenterology
20 | ISO 8600-3:1997 Amendment 1 2003, Optics and Optical Instruments—Medical Endoscopes and Endoscopic Accessories Part 3: Determination of Field of View and Direction of View of Endoscopes with Optics | Withdraw duplicate |
32 | ASTM D3492-03 Standard Specification for Rubber Contraceptives (Male Condoms) | Extent of recognition, processes impacted, relevant guidance |
33 | ASTM F623-99(2006) Standard Performance Specification for Foley Catheter | Withdrawn and replaced with newer version | 44
34 | ISO 4074:2002/Cor.1:2003(E) Natural Latex Rubber Condoms—Requirements and Test Methods, Technical Corrigendum 1 | Extent of recognition, relevant guidance |
G. Ophthalmic
1 | ISO 9338:1996 Optics and Optical Instruments—Contact Lenses—Determination of the Diameters | Withdrawn |
2 | ISO 9339-1:1996 Optics and Optical Instruments—Contact Lenses—Determination of the Thickness—Part 1: Rigid Contact Lenses | Withdrawn |
4 | ISO 9341:1996 Optics and Optical Instruments—Contact Lenses—Determination of Inclusions and Surface Imperfections for Rigid Contact Lenses | Withdrawn |
7 | ISO 9913-1:1996 Optics and Optical Instruments—Contact Lenses—Part 1: Determination of Oxygen Permeability and Transmissibility with the FATT Method | Withdrawn |
8 | ISO 10338:1996 Optics and Optical Instruments—Contact Lenses—Determination of Curvature | Withdrawn |
9 | ISO 10339:1997 Ophthalmic Optics—Contact Lenses—Determination of Water Content of Hydrogel Lenses | Withdrawn |
10 | ISO 10340:1995 Optics and Optical Instruments—Contact Lenses—Method for Determining the Extractable Substances | Withdrawn |
11 | ISO 10344:1996 Optics and Optical Instruments—Contact Lenses—Saline Solution for Contact Lens Testing | Withdrawn |
16 | ISO 9913-2:2000 Optics and Optical Instruments—Contact Lenses—Part 2: Determination of Oxygen Permeability and Transmissibility by the Coulometric Method | Withdrawn |
17 | ISO 10939:2007 Ophthalmic Instruments—Slit-lamp Microscopes | Withdrawn and replaced with newer version | 35
19 | ISO 11539:1999 Ophthalmic Optics—Contact Lenses—Classification of Contact Lenses and Contact Lens Materials | Withdrawn |
22 | ISO 11979-3:2006 Ophthalmic Implants—Intraocular Lenses—Part 3: Mechanical Properties and Test Methods | Withdrawn and replaced with newer version | 36
25 | ISO 12865:2006 Ophthalmic Instruments—Retinoscopes | Withdrawn and replaced with newer version | 39
27 | ISO 11979-7:2006 Ophthalmic Implants—Intraocular Lenses—Part 7: Clinical Investigations | Withdrawn and replaced with newer version | 41
H. Orthopedic/ Physical Medicine
121 | ISO 7207-1:1994, Implants for Surgery—Components for Partial and Total Knee Joint Prostheses—Part 1: Classification, Definitions and Designation of Dimensions | Withdrawn |
I. Radiology
57 & 132 | IEC 60731 (1997), (2002) Amendment 1, Medical Electrical Equipment—Dosimeters with Ionization Chambers as Used in Radiotherapy | Withdrawn and combine | 162
59 | IEC 61168:1993, Radiotherapy Simulators—Functional Performance Characteristics | Contact person |
63 | IEC 60601-2-43—Ed. 1.0, Medical Electrical Equipment—Part 2-43: Particular Requirements for the Safety of X-ray Equipment for Interventional Procedures | Contact person |
91 | IEC 60601-2-8 (1997-08), Amendment 1—Medical Electrical Equipment—Part 2: Particular Requirements for the Safety of Therapeutic X-ray Equipment Operating in the Range of 10 kV to 1 MV | Withdrawn duplicate |
103 | ANSI / IESNA RP-27.3-1996, Recommended Practice for Photobiological Safety for Lamps—Risk Group Classification and Labeling | Title |
130 & 148 | IEC 60601-2-37 (2004), (2005) Amendment 2, Medical Electrical Equipment—Part 2-37: Particular Requirements for the Safety of Ultrasonic Medical Diagnostic and Monitoring Equipment | Withdrawn and combine | 164
131 | IEC 61217 2002:, Radiotherapy Equipment—Coordinates, Movements, and Scales Consolidated Ed. 1.1 | Contact person |
133 | IEC 60601-2-11 (1997), (2004) Amendment 1, Medical Electrical Equipment—Part 2-11: Particular Requirements for the Safety of gamma Beam Therapy Equipment | Title |
145 | IEC 61674 (1997), (2002) Amendment 1, Medical Electrical Equipment—Dosimeters with Ionization Chambers and/or Semi-conductor Detectors as Used in X-ray Diagnostic Imaging | Contact person |
J. Sterility
28 | ANSI/AAMI/ISO 11737-1:2006, Sterilization of Medical Devices—Microbiological Methods—Part 1: Determination of a Population of Microorganisms on Products, 2nd ed. | Withdrawn and replaced with newer version | 227
47 | ANSI/AAMI ST37:1996, Flash Sterilization: Steam Sterilization of Patient Care Items for Immediate Use | Withdrawn |
49 | ANSI/AAMI ST41:1999/(R) 2005, Ethylene Oxide Sterilization in Health Care Facilities: Safety and Effectiveness | Reaffirmation |
50 | ANSI/AAMI ST42:1998, Steam Sterilization and Sterility Assurance Using Table-top Sterilizers in Office-based, Ambulatory-care Medical, Surgical, and Dental Facilities. | Withdrawn |
52 | ANSI/AAMI ST59:1999, Sterilization of Health Care Products—Biological Indicators—Part 1: General | Withdrawn |
53 | ANSI/AAMI ST66:1996, Sterilization of Health Care Products—Chemical Indicators—Part 2: Indicators for Air Removal Test Sheets and Packs | Contact person |
54 | ANSI/AAMI/ISO 11737-2:1998, Sterilization of Medical Devices—Microbiological Methods—Part 2: Tests of Sterility Performed in the Validation of a Sterilization Process | Contact person |
60 | ASTM F1327:1998, Standard Terminology Relating to Barrier Materials for Medical Packaging | Contact person |
63 | ASTM F1886: 1998 (2004), Standard Test Method for Determining Integrity of Seals for Medical Packaging by Visual Inspection | Contact person |
64 | ASTM F1929:1998 (2004), Standard Test Method for Detecting Seal Leaks in Porous Medical Packaging by Dye Penetration | Contact person |
72 | ANSI/AAMI ST33:1996, Guidelines for the Selection and Use of Reusable Rigid Sterilization Container Systems for Ethylene Oxide Sterilization and Steam Sterilization in Health Care Facilities | Withdrawn |
75 | ANSI/AAMI/ISO 11137:1994, Sterilization of Health Care Products—Requirements for Validation and Routine Control—Radiation Sterilization and ANSI/AAMI/ISO 11137:1994 (Amendment 1:2002) | Withdrawn |
77 | ANSI/AAMI ST24:1999/(R) 2005, Automatic, General Purpose Ethylene Oxide Sterilizers and Ethylene Oxide Sterilant Sources Intended for use in Health Care Facilities, 3rd ed. | Reaffirmation |
86 | ASTM F1980:2002, Standard Guide for Accelerated Aging of Sterile Medical Device Packages | Contact person |
88 | ANSI/AAMI/ISO 14937:2000, Sterilization of Health Care Products—General Requirements for Characterization of a Sterilizing Agent and the Development, Validation, and Routine Control of a Sterilization Process for Medical Devices | Extent of recognition |
90 | ASTM F2095-01, Standard Test Methods for Pressure Decay Leak Test for Nonporous Flexible Packages With and Without Restraining Plates | Contact person |
105 | ANSI/AAMI ST46:2002, Steam Sterilization and Sterility Assurance in Health Care Facilities | Withdrawn |
116 | ANSI/AAMI ST72:2002, Bacterial Endotoxins—Test Methodologies, Routine Monitoring, and Alternatives to Batch Testing | Contact person |
117 | ANSI/AAMI ST35:2003, Safe Handling and Biological Decontamination of Reusable Medical Devices in Health Care Facilities and in Nonclinical Settings | Extent of recognition |
120 | ASTM D3078:2002, Standard Test Method for Determination of Leaks in Flexible Packaging by Bubble Emission | Contact person |
123 | ASTM F2096-04, Standard Test Method for Detecting Gross Leaks in Medical Packaging by Internal Pressurization (Bubble Test) | Contact person |
134 | ANSI/AAMI ST44:2002, Resistometers Used for Characterizing the Performance of Biological and Chemical Indicators | Withdrawn |
135 | ANSI/AAMI ST63:2002, Sterilization of Health Care Products—Requirements for the Development, Validation and Routine Control of an Industrial Sterilization Process for Medical Devices—Dry heat | Extent of recognition |
136 | ANSI/AAMI ST67:2003, Sterilization of Health Care Products—Requirements for Products Labeled ‘sterile’ | Contact person |
137 | ANSI/AAMI/ISO TIR 11139:2006, Sterilization of Health Care Products—Vocabulary | Withdrawn and replaced with newer version | 221
144 | ASTM F2203-02e1, Standard Test Method for Linear Measurement Using Precision Steel Rule | Contact person |
145 | ASTM F2217-02, Standard Practice for Coating/Adhesive Weight Determination | Contact person |
146 | ASTM F2227-02, Standard Test Method of Leaks in Non-sealed and Empty Medical Packaging Trays by C02 Tracer Gas Method | Contact person |
147 | ASTM F2228-02, Standard Test Method for Non-Destructive Detection of Leaks in Medical Packaging Which Incorporates Porous Barrier Material by C02 Tracer Gas Method | Contact person |
148 | ASTM F2250-03, Standard Practice for Evaluation of Chemical Resistance of Printed Inks and Coatings on Flexible Packaging Materials | Contact person |
149 | ASTM F2251-03e1, Standard Test Method for Thickness Measurement of Flexible Packaging Material | Contact person |
150 | ASTM F2252-03, Standard Practice for Evaluating Ink or Coating Adhesion to Flexible Packaging Materials Using Tape | Contact person |
163 | ANSI/AAMI/ISO 11737-3:2004, Sterilization of Medical Devices—Microbiological Methods—Part 3: Guidance on Evaluation and Interpretation of Bioburden Data | Withdrawn |
167 | ASTM F2097-05, Standard Guide for Design and Evaluation of Primary Packaging for Medical Products | Contact person |
168 | ASTM F2338-05, Standard Test Method for Nondestructive Detection of Leaks in Packages by Vacuum Decay Method | Contact person |
169 | ASTM F2391-05, Standard Test Method for Measuring Package and Seal Integrity Using Helium as Tracer Gas | Contact person |
170 | ASTM F2475-05, Standard Guide for Biocompatibility Evaluation of Medical Device Packaging Materials | Contact person |
171 | ANSI/AAMI/ISO 15882:2003, Chemical Indicators—Guidance on the Selection, Use, and Interpretation of Results | Contact person |
172 | AOAC 6.2.01:2006, Official Method 955.14, Testing Disinfectants Against Salmonella choleraesuis, Use-Dilution Method | Withdrawn and replaced with newer version | 211
173 | AOAC 6.2.02:2006, Official Method 991.47, Testing Disinfectants Against Salmonella choleraesuis, Hard Surface Carrier Test Method | Withdrawn and replaced with newer version | 212
174 | AOAC 6.2.03:2006, Official Method 991.48, Testing Disinfectants Against Staphylococcus aureus, Hard Surface Carrier Test Method | Withdrawn and replaced with newer version | 213
175 | AOAC 6.2.04:2006, Official Method 955.15, Testing Disinfectants Against Staphylococcus aureus, Use-Dilution Method | Withdrawn and replaced with newer version | 214
176 | AOAC 6.2.05:2006, Official Method 991.49, Testing Disinfectants Against Pseudomonas aeruginosa, Hard Surface Carrier Test Method | Withdrawn and replaced with newer version | 215
177 | AOAC 6.2.06:2006, Official Method 964.02, Testing Disinfectants Against Pseudomonas aeruginosa, Use-Dilution Method | Withdrawn and replaced with newer version | 216
178 | AOAC 6.3.02:2006, Official Method 955.17, Fungicidal Activity of Disinfectants Using Trichophyton mentagrophytes | Withdrawn and replaced with newer version | 217
179 | AOAC 6.3.05:2006, Official Method 966.04, Sporicidal Activity of Disinfectants, Method I | Withdrawn and replaced with newer version | 218
180 | AOAC 6.3.06:2006, Official Method 965.12, Tuberculocidal Activity of Disinfectants | Withdrawn and replaced with newer version | 219
181 | ANSI/AAMI ST58:2005, Chemical Sterilization and High-Level Disinfection in Health Care Facilities | Title, Devices affected and Relevant guidance |
182 | USP 30:2007, Biological Indicator for Dry-Heat Sterilization, Paper Carrier | Withdrawn and replaced with newer version | 202
183 | USP 30:2007, Biological Indicator for Ethylene Oxide Sterilization, Paper Carrier | Withdrawn and replaced with newer version | 203
184 | USP 30:2007, Biological Indicator for Steam Sterilization, Paper Carrier | Withdrawn and replaced with newer version | 204
185 | USP 30:2007, <61> Microbial Limits Test | Withdrawn and replaced with newer version | 205
186 | USP 30:2007, <71> Microbiological Tests, Sterility Tests | Withdrawn and replaced with newer version | 206
187 | USP 30:2007, <85> Biological Tests and Assays, Bacterial Endotoxin Test (LAL) | Withdrawn and replaced with newer version | 207
188 | USP 30:2007, <151> Pyrogen Test (USP Rabbit Test) | Withdrawn and replaced with newer version | 208
189 | USP 30:2007, <161> Transfusion and Infusion Assemblies and Similar Medical Devices | Withdrawn and replaced with newer version | 209
190 | USP 30:2007, Biological Indicator for Steam Sterilization, Self-Contained | Withdrawn and replaced with newer version | 210
193 | ANSI/AAMI/ISO 11607-1:2006, Packaging for Terminally Sterilized Medical Devices—Part 1: Requirements for Materials, Sterile Barrier Systems and Packaging Systems, 3rd ed. | Contact person |
194 | ANSI/AAMI/ISO 11607-2:2006, Packaging for Terminally Sterilized Medical Devices—Part 2: Validation Requirements for Forming, Sealing and Assembly Processes, 1st ed. | Contact person |
196 | ASTM F1140-2005, Standard Test Methods for Internal Pressurization Failure Resistance of Unrestrained Packages for Medical Applications | Contact person |
197 | ASTM F1608:2004, Standard Test Method for Microbial Ranking of Porous Packaging Materials (Exposure Chamber Method) | Contact person |
198 | ASTM F2054-05, Standard Test Method for Burst Testing of Flexible Package Seals Using Internal Air Pressurization Within Restraining Plates | Contact person |
199 | ASTM D4169-05, Standard Practice for Performance Testing of Shipping Containers and Systems | Contact person |
200 | ASTM F88-2005, Standard Test Method for Seal Strength of Flexible Barrier Materials | Contact person |
K. Tissue Engineering
3 | ASTM F2212-02(2007)e1, Standard Guide for Characterization of Type I Collagen as Starting Material for Surgical Implants and Substrates for Tissue Engineered Medical Products (TEMPs) | Withdrawn and replaced with newer version | 11

III. Listing of New Entries

In table 3 of this document, FDA provides the listing of new entries and consensus standards added as modifications to the list of recognized standards under Recognition List Number: 018.

Table 3.
Item No. | Title of Standard | Reference No. and Date
A. Anesthesia
72 | Lung Ventilators for Medical Use—Particular Requirements for Basic Safety and Essential Performance—Part 5: Gas-powered Emergency Resuscitators | ISO 10651-5:2006
73 | Lung Ventilators—Part 4: Particular Requirements for Operator Powered Resuscitators | ISO 10651-4:2002
B. Biocompatibility
117 | Biological Evaluation of Medical Devices—Part 3: Tests for Genotoxicity, Carcinogenicity, and Reproductive Toxicity | ANSI/AAMI/ISO 10993-3: 2003
C. Dental/ ENT
144 | Dentistry-Mercury and Alloys for Dental Amalgam | ISO 24234: 2004(E)
D. OB-GYN/Gastroenterology
45 | Standard Test Methods for Enteral Feeding Devices with a Retention Balloon | ASTM F2528-06
E. Ophthalmic
42 | Ophthalmic Implants—Intraocular lenses—Part 2: Optical Properties and Test Methods | ISO 11979-2:1999/Corrigendum1:2003
43 | Ophthalmic Optics—Contact Lenses and Contact Lens Care Products—Determination of Physical Compatibility of Contact Lens Care Products with Contact Lenses | ISO 11981:1999/ Corrigendum1:2005
45 | Ophthalmic Optics—Contact Lenses—Part 2: Tolerances | ISO 18369-2:2006
46 | Ophthalmic Optics—Contact Lenses—Part 3: Measurement Methods | ISO 18369-3:2006
48 | Ophthalmic Implants—Intraocular Lenses—Part 5: Biocompatibility | ISO 11979-5:2006
49 | Ophthalmic Implants—Intraocular Lenses—Part 9: Multifocal Intraocular Lenses | ISO 11979-9:2006
50 | Ophthalmic implants—Intraocular lenses—Part 10: Phakic Intraocular Lenses | ISO 11979-10:2006
51 | Ophthalmic Instruments—Fundamental Requirements and Test Methods Part 2: Light Hazard Protection | ISO 15004-2:2007
F. Radiology
165 | “Quality Control Manual” Template for Manufacturers of Displays and Workstations Labeled for Final Interpretation in Full-field Digital Mammography | NEMA XR 22-2006
166 | “Quality Control Manual” Template for Manufacturers of Hardcopy Output Devices Labeled for Final Interpretation in Full-field Digital Mammography | NEMA XR 23-2006
G. Sterility
201 | Containment Devices for Reusable Medical Device Sterilization | ANSI/AAMI ST77:2006
220 | Comprehensive Guide to Steam Sterilization and Sterility Assurance in Health Care Facilities | ANSI/AAMI ST79:2006
222 | Sterilization of Health Care Products—Biological and Chemical Indicators—Test Equipment | ANSI/AAMI/ISO 18472:2006
223 | Sterilization of Health Care Products—Biological Indicators—Part 1: General Requirements | ANSI/AAMI/ISO 11138-1:2006
224 | Sterilization of Health Care Products—Radiation—Part 1: Requirements for the Development, Validation and Routine Control of a Sterilization Process for Medical Devices | ANSI/AAMI/ISO 11137-1:2006
225 | Sterilization of Health Care Products—Radiation—Part 2: Establishing the Sterilization Dose | ANSI/AAMI/ISO 11137-2:2006
226 | Sterilization of Health Care Products—Radiation—Part 3: Guidance on Dosimetric Aspects | ANSI/AAMI/ISO 11137-3:2006
H. Tissue Engineering
9 | Standard Guide for Classification of Therapeutic Skin Substitutes | ASTM F2311-06
10 | Standard Guide for in vivo Assessment of Implantable Devices Intended to Repair or Regenerate Articular Cartilage | ASTM F2451-05

IV. List of Recognized Standards

FDA maintains the agency's current list of FDA recognized consensus standards in a searchable database that may be accessed directly at FDA's Web site at http://www.accessdata.fda.gov/scripts/cdrh/cfdocs/cfstandards/search.cfm. FDA will incorporate the modifications and minor revisions described in this notice into the database and, upon publication in the Federal Register, this recognition of consensus standards will be effective. FDA will announce additional modifications and minor revisions to the list of recognized consensus standards, as needed, in the Federal Register once a year, or more often, if necessary.

V. Recommendation of Standards for Recognition by FDA

Any person may recommend consensus standards as candidates for recognition under the new provision of section 514 of the act by submitting such recommendations, with reasons for the recommendation, to the contact person (See FOR FURTHER INFORMATION CONTACT). To be properly considered such recommendations should contain, at a minimum, the following information: (1) Title of the standard, (2) any reference number and date, (3) name and address of the national or international standards development organization, (4) a proposed list of devices for which a declaration of conformity to this standard should routinely apply, and (5) a brief identification of the testing or performance or other characteristics of the device(s) that would be addressed by a declaration of conformity.

VI. Electronic Access

You may obtain a copy of “Guidance on the Recognition and Use of Consensus Standards” by using the Internet. The Center for Devices and Radiological Health (CDRH) maintains a site on the Internet for easy access to information including text, graphics, and files that you may download to a personal computer with access to the Internet. Updated on a regular basis, the CDRH home page includes the guidance as well as the current list of recognized standards and other standards related documents. After publication in the Federal Register, this notice announcing “Modification to the List of Recognized Standards, Recognition List Number: 018” will be available on the CDRH home page. You may access the CDRH home page at http://www.fda.gov/cdrh.

You may access “Guidance on the Recognition and Use of Consensus Standards,” and the searchable database for “FDA Recognized Consensus Standards” through the hyperlink at http://www.fda.gov/cdrh/stdsprog.html.

This Federal Register document on modifications in FDA's recognition of consensus standards is available at http://www.accessdata.fda.gov/scripts/cdrh/cfdocs/cfTopic/cdrhnew.cfm.

VII. Submission of Comments and Effective Date

Interested persons may submit to the contact person (see FOR FURTHER INFORMATION CONTACT) written or electronic comments regarding this document. Submit a single copy of electronic comments or two paper copies of any mailed comments, except that individuals may submit one paper copy. Comments are to be identified with the docket number found in brackets in the heading of this document. FDA will consider any comments received in determining whether to amend the current listing of modifications to the list of recognized standards, Recognition List Number: 018. These modifications to the list or recognized standards are effective upon publication of this notice in the Federal Register.

Dated: August 30, 2007.
Linda S. Kahan,
Deputy Director, Center for Devices and Radiological Health.

[FR Doc. E7-18021 Filed 9-11-07; 8:45 am]

BILLING CODE 4160-01-S